DEPARTMENT OF ENERGY

Federal Energy Regulatory Commission

[Project No. 13948-001]

Public Utility District No. 1 of Snohomish County; Notice of Intent To File License Application, Filing of Pre-Application Document, and Approving Use of the Traditional Licensing Process

a. Type of Filing: Notice of Intent to File License Application and Request to Use the Traditional Licensing Process.

b. Project No.: 13948-001.

c. Date Filed: September 9, 2011.

d. Submitted By: Public Utility District No. 1 of Snohomish County (Snohomish PUD).

e. Name of Project: Calligan Creek Hydroelectric Project.

f. Location: On Calligan Creek, in King County, Washington. No federal lands are occupied by the project works or located within the project boundary.

g. Filed Pursuant to: 18 CFR 5.3 of the Commission's regulations.

h. Potential Applicant Contact: Kim D. Moore, Assistant General Manager of Generation, Water, and Corporate Services; Public Utility District No. 1 of Snohomish County; 2320 California Street; P.O. Box 1107; Everett, WA 98206-1107; (425) 783-8606; email: KDMoore@snopud.com.

i. FERC Contact: Kelly Wolcott at (202) 502-6480; or email at kelly.wolcott@ferc.gov.

j. Snohomish PUD No. 1 filed its request to use the Traditional Licensing Process on September 9, 2011. Snohomish PUD provided public notice of its request on September 8, 2011. In a letter dated November 7, 2011, the Director of the Division of Hydropower Licensing approved Snohomish PUD's request to use the Traditional Licensing Process.

k. With this notice, we are initiating informal consultation with: (a) The U.S. Fish and Wildlife Service and/or NOAA Fisheries under section 7 of the Endangered Species Act and the joint agency regulations thereunder at 50 CFR, part 402; (b) NOAA Fisheries under section 305(b) of the Magnuson-Stevens Fishery Conservation and Management Act and implementing regulations at 50 CFR 600.920; and (c) the Washington State Historic Preservation Officer, as required by section 106, National Historical Preservation Act, and the implementing regulations of the Advisory Council on Historic Preservation at 36 CFR 800.2.

l. With this notice, we are designating Snohomish PUD as the Commission's non-federal representative for carrying out informal consultation, pursuant to section 7 of the Endangered Species Act, section 305 of the Magnuson-Stevens Fishery Conservation and Management Act, and section 106 of the National Historic Preservation Act.

m. Snohomish PUD filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-(866) 208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: November 8, 2011.
Kimberly D. Bose,
Secretary.

[FR Doc. 2011-29405 Filed 11-14-11; 8:45 am]

BILLING CODE 6717-01-P